DEPARTMENT OF TRANSPORTATION

Federal Highway Administration

[Docket No. FHWA-2013-0056]

Agency Information Collection Activities: Request for Comments for a New Information Collection

AGENCY: Federal Highway Administration (FHWA), DOT.

ACTION: Notice and request for comments.

SUMMARY: In compliance with the Paperwork Reduction Act (PRA) of 1995 (44 U.S.C. 3501-3521), this notice announces that FHWA will submit the collection of information described below to the Office of Management and Budget (OMB) for review and comment. The Federal Register Notice with a 60-day comment period soliciting comments on the following collection of information was published on May 20, 2013. The PRA submission describes the nature of the information collection and its expected cost and burden.

DATES: Please submit comments by January 9, 2014.

ADDRESSES: You may submit comments identified by DOT Docket ID 2013-0056 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

Crystal Jones, 202-366-2976, Office of Freight Management & Operations (HOFM-1), Office of Operations, Federal Highway Administration, 1200 New Jersey Ave, Room E84-313, Washington, DC 20509. Office hours are from 8:30 a.m. to 5:00 p.m., Monday through Friday, except Federal holidays.

SUPPLEMENTARY INFORMATION:

Title: USDOT Survey on Projects of National and Regional Significance (PNRS).

Background: This information collection will facilitate compliance with the requirements of Moving Ahead for Progress in the 21st Century Act (MAP-21) as stated in Section 1120 (l)—Project of National and Regional Significance (PNRS). The information collection is not a solicitation for a grant application. Response to the information collection is voluntary; and responding or not responding will not help, harm or directly influence the USDOT's evaluation for any future funding or solicitation for projects.

The information collected will be used by USDOT in submitting the required report to Congress regarding PNRS, in accordance with MAP-21 Section 1120. The analysis to support the development of the content of the report will include; a review of project eligibility and the supporting information submitted by the respondents. As a minimum, all respondents will be asked to provide information that demonstrates how the project of national or regional significance meets the requirements outlined in the law.

Section 1301 of the Safe, Accountable, Flexible, Efficient Transportation Equity Act: A Legacy for Users (SAFETEA-LU) (Pub. L. 109-59; 119 Stat. 1144) established a program to provide grants to States for PNRS to improve the safe, secure, and efficient movement of people and goods throughout the United States and to improve the health and welfare of the national economy. The PNRS program was amended under Section 1120 of the Moving Ahead for Progress in the 21st Century Act, (MAP-21), Public Law 112-141 as follows:

• Expands eligible applicants to include a tribal government or consortium of tribal governments, a transit agency; or a multi-State or multi-jurisdictional group in addition to State DOTs.

• Reduces the floor on total project costs to $500m or 50% of the state's apportionment (previously 75%).

• Adds evaluation criteria to consider if a project improves roadways vital to national energy security and removes criteria related to technology.

• Requires United States Department of Transportation (USDOT) to develop a Report to Congress regarding PNRS. The purpose of the report is to identify projects of national and regional significance that:

○ Will significantly improve the performance of the Federal-aid highway system, nationally or regionally;

○ Generate national economic benefits that reasonably exceed the costs of the projects, including increased access to jobs, labor, and other critical economic inputs;

○ Reduce long-term congestion, including impacts in the State, region, and the United States, and increase speed, reliability, and accessibility of the movement of people or freight; and

○ Improve transportation safety, including reducing transportation accidents, and serious injuries and fatalities; and

○ Can be supported by an acceptable degree of non-Federal financial commitments.

Respondents: The target groups of respondents are eligible applicants for the PRNS program, this includes:

(A) A State department of transportation or a group of State departments of transportation;

(B) A tribal government or consortium of tribal governments;

(C) A transit agency; or

(D) A multi-State or multi-jurisdictional group of the agencies described in (A) through (C) above.

The target groups identified in the MAP-21 are “State departments of transportation” (SDOTs). The FHWA interprets SDOTs to be the minimum target group of respondents and believes it is necessary to survey all eligible applicants groups, in order to compile the comprehensive list of projects required by the law.

Estimate:

State Departments of Transportation = 52

Transit Agencies = 50

Tribal Governments = 10

Multi-state or multi-jurisdictional groups = 10

Burden hours:

80 hours/State Department of Transportation = 4160 hours

40 hours/Transit Agency = 2000 hours

10 hours/Tribal Government = 100

20 hours/Multi-state or multi-jurisdictional groups = 200

Total burden hours = 6460 (as allocated above).

Estimated Average Burden per Response: The estimated average reporting burden per response is 80 hours per State Department of Transportation, 40 hours per large transit agency, 10 hours per tribal government and 20 hours per Multi-state or multi-jurisdictional groups. The estimated average burden for SDOTs is greater than other respondents, this is in part because the FHWA expects that SDOTs, in developing their PNRS project lists, will gather input from project developers, such metropolitan planning organizations, seaports, railroads, economic development organizations, and entities which have responsibility for planning and/or implementing transportation infrastructure projects.

Estimated Total Annual Burden: This information collection is a one-time requirement.

Authority: The Paperwork Reduction Act of 1995; 44 U.S.C. Chapter 35, as amended; and 49 CFR 1.48.

Issued On: December 4, 2013.
Michael Howell,
Information Collection Officer.

[FR Doc. 2013-29427 Filed 12-9-13; 8:45 am]

BILLING CODE P